NUCLEAR REGULATORY COMMISSION

[Docket Nos. 50-277 and 50-278]

Peco Energy Company; Peach Bottom Atomic Power Station, Units 2 and 3 Environmental Assessment and Finding of No Significant Impact

The U.S. Nuclear Regulatory Commission (NRC) is considering the issuance of an exemption from Section III.F of Appendix R to 10 CFR Part 50 for Facility Operating Licenses Nos. DPR-44 and DPR-56, issued to PECO Energy Company (the licensee), along with other co-licensees, for operation of the Peach Bottom Atomic Power Station, Units 2 and 3, located in York County, Pennsylvania.

Environmental Assessment

Identification of the Proposed Action

The proposed action would grant an exemption from the requirements of 10 CFR Part 50, Appendix R, Section III.F, “Automatic Fire Detection,” to the extent that they require the installation of automatic fire detection systems in certain fire areas that contain or present an exposure fire hazard to safety-related or safe shutdown systems or components. The licensee is seeking an exemption from the requirements for an automatic fire detection system for 8 fire zones in fire area 50 (the common area between both turbine buildings), 2 fire zones within fire area 6S (a portion of the Unit 2 reactor building), and 2 fire zones within fire area 13N (a portion of the Unit 3 reactor building). Specifically, these fire zones are (1) the Condenser Bays Fire Zones 50-78W and 50-78V; (2) Equipment hatchway and adjoining equipment rooms, Fire Zone 50-78B; (3) Main Turbine Lube Oil Storage Tank Rooms, Fire Zones 50-88 and 50-89; (4) Reactor Feedwater Turbine Area Corridors, Fire Zone 50-78A; (5) Steam Jet Ejector Room, Fire Zone 50-78EE; (6) Feedwater Heater Room, Fire Zone 50-99; and (7) Reactor Water Cleanup System Equipment, Fire Zones 6S-42, 6S-5M, 13N-36, and 13N-13M.

The proposed action is in accordance with the licensee's application for exemption dated December 31, 1998, as supplemented by letters dated January 14 and April 14, 2000.

The Need for the Proposed Action

The proposed exemption from Section III.F to effectively allow the fire areas and zones, as discussed above, to not meet the provisions otherwise requiring the installation of automatic fire detection systems is needed in order to preclude a substantial hardship should plant modifications be required to be made that would not significantly increase the level of fire protection currently at Peach Bottom Units 2 and 3.

Environmental Impacts of the Proposed Action

The NRC has completed its evaluation of the proposed action and concludes that with the proposed exemption there will be an adequate level of fire protection and the underlying purpose of Section III.F, of Appendix R, for the affected areas of the plants will be met, such that there would be no significant increase in the risk of fires at these facilities, except for Fire Zone 50-78B (Room 429) and Fire Zone 50-99 (Room 222). The fire hazard associated with Fire Zones 50-78B and 50-99 warrant some fire protection system to provide reasonable assurance of safety. The staff concludes that an automatic detection system should be provided for these Fire Zones to provide prompt notification to the control room of a fire in these Fire Zones during its incipient stage to allow a rapid response from the plant fire brigade.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for Peach Bottom Units 2 and 3.

Agencies and Persons Consulted

In accordance with its stated policy, on June 2, 2000, the staff consulted with the Pennsylvania State official, Mr. Dennis Dyckman of the Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 31, 1998, as supplemented by letters dated January 14 and April 14, 2000, which are available for public inspection at the Commission's Public Document Room, The Gelman Building, 2120 L Street, NW., Washington, DC. Publicly available records will be accessible electronically from the ADAMS Public Library component on the NRC Web site, http://www.nrc.gov (the Electronic Reading Room).

Dated at Rockville, Maryland, this 24th day of July 2000.
For the Nuclear Regulatory Commission.
Bartholomew C. Buckley, Sr.,
Project Manager, Section 2, Project Directorate I, Division of Licensing Project Management, Office of Nuclear Reactor Regulation.

[FR Doc. 00-19245 Filed 7-28-00; 8:45 am]

BILLING CODE 7590-01-P